DEPARTMENT OF TRANSPORTATION

Office of the Secretary

Notice of Applications for Certificates of Public Convenience and Necessity and Foreign Air Carrier Permits Filed Under Subpart B (Formerly Subpart Q) During the Week Ending February 23, 2007

The following Applications for Certificates of Public Convenience and Necessity and Foreign Air Carrier

Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2005-21348.

Date Filed: February 22, 2007.

Due Date for Answers, Conforming Applications, or Motion to Modify Scope: March 15, 2007.

Description: Application of Gulfstream Air Charter, Inc. requesting the Department approve a change in its name from “Gulfstream Air Charter, Inc.” to “Gulfstream Connection, Inc.”, and that the Department reissue the commuter air carrier authorization issued on February 17, 2006.

Docket Number: OST-2007-27416.

Date Filed: February 22, 2007.

Due Date for Answers, Conforming Applications, or Motion to Modify Scope: March 15, 2007.

Description: Application of Aerolineas Galapagos AeroGal, S.A. requesting an exemption and a foreign air carrier permit, authorizing it to engage in scheduled foreign air transportation of persons, property and mail between a point or points in Ecuador and the co-terminal points Miami and New York.

Renee V. Wright,
Program Manager, Docket Operations, Federal Register Liaison.

[FR Doc. E7-4075 Filed 3-6-07; 8:45 am]

BILLING CODE 4910-9X-P